DEPARTMENT OF HEALTH AND HUMAN SERVICES

Centers for Disease Control and Prevention

Decision To Evaluate a Petition To Designate a Class of Employees From United Nuclear Corporation in Hematite, Missouri, To Be Included in the Special Exposure Cohort

AGENCY: National Institute for Occupational Safety and Health (NIOSH), Centers for Disease Control and Prevention, Department of Health and Human Services (HHS).

ACTION: Notice.

SUMMARY: NIOSH gives notice of a decision to evaluate a petition to designate a class of employees from the United Nuclear Corporation in Hematite, Missouri, as an addition to the Special Exposure Cohort (SEC) under the Energy Employees Occupational Illness Compensation Program Act of 2000.

FOR FURTHER INFORMATION CONTACT: Lori Marion-Moss, Director, Division of Compensation Analysis and Support, National Institute for Occupational Safety and Health, 1090 Tusculum Avenue, MS C-46, Cincinnati, OH 45226-1938, Telephone 877-222-7570. Information requests can also be submitted by email to DCAS@CDC.GOV.

SUPPLEMENTARY INFORMATION:

Pursuant to 42 CFR 83.12, the initial proposed definition for the class being evaluated, subject to revision as warranted by the evaluation, is as follows:

Facility: United Nuclear Corporation.

Location: Hematite, Missouri.

Job Titles and/or Job Duties: “All site employees that worked in any area of the United Nuclear Corporation—Hematite, MO, site”.

Period of Employment: January 1, 1958, through June 30, 1965.

Authority: 42 CFR 83.9-83.12.

John J. Howard,
Director, National Institute for Occupational Safety and Health, Centers for Disease Control and Prevention, Department of Health and Human Services.

[FR Doc. 2025-24005 Filed 12-29-25; 8:45 am]

BILLING CODE 4163-18-P